DEPARTMENT OF HEALTH AND HUMAN SERVICES

Agency for Toxic Substances and Disease Registry

[ATSDR-210]

Public Health Assessments Completed

AGENCY: Agency for Toxic Substances and Disease Registry (ATSDR), Department of Health and Human Services (HHS).

ACTION: Notice.

SUMMARY: This notice announces those sites for which ATSDR has completed public health assessments during the period from January through March 2005. This list includes sites that are on or proposed for inclusion on the National Priorities List (NPL) and includes sites for which assessments were prepared in response to requests from the public.

FOR FURTHER INFORMATION CONTACT: William Cibulas, Jr., Ph.D., Director, Division of Health Assessment and Consultation, Agency for Toxic Substances and Disease Registry, 1600 Clifton Road, NE., Mailstop E-32, Atlanta, Georgia 30333, telephone (404) 498-0007.

SUPPLEMENTARY INFORMATION: The most recent list of completed public health assessments was published in the Federal Register on April 12, 2005 (70 FR 19081). This announcement is the responsibility of ATSDR under the regulation “Public Health Assessments and Health Effects Studies of Hazardous Substances Releases and Facilities” (42 CFR part 90). This rule sets forth ATSDR's procedures for the conduct of public health assessments under section 104(i) of the Comprehensive Environmental Response, Compensation, and Liability Act (CERCLA), as amended by the Superfund Amendments and Reauthorization Act (SARA) (42 U.S.C. 9604(i)).

Availability

The completed public health assessments are available for public inspection at the Division of Health Assessment and Consultation, Agency for Toxic Substances and Disease Registry, 1825 Century Boulevard, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between January 1, 2005, and March 31, 2005, public health assessments were issued for the sites listed below:

NPL and Proposed NPL Sites

California

Lawrence Livermore National Laboratory Site 300 (USDOE)—(PB2005-106289)

Florida

Stauffer Chemical Company—(PB2005-104925)

Idaho

Eastern Michaud Flats Contamination—(PB2005-104896)

Louisiana

Delatte Metals—(PB2005-106278)

New Mexico

Griggs & Walnut Ground Water Plume (a/k/a Griggs & Walnut Groundwater Site)—(PB2005-103476)

Molycorp, Incorporated—(PB2005-103470)

New York

Jackson Steel Products, Incorporated—(PB2005-104022)

Liberty Industrial Finishing Corporation—(PB2005-104880)

Mohonk Road Industrial Plant—(PB2005-104023)

North Carolina

Ward Transformer—(PB2005-104024)

West Virginia

Big John Salvage—Hoult Road Site—(PB2005-104021)

Non-NPL Petitioned Sites

Arkansas

Koppers Industries—(PB2005-102488)

California

Laytonville Landfill—(PB2005-104879)

Georgia

Arivec Chemicals, Incorporated—(PB2005-104020)

Minnesota

Faribault Municipal Well Field—(PB2005-104878)

Dated: June 23, 2005.
Kevin A. Ryan,
Acting Director, Office of Policy, Planning, and Evaluation, National Center for Environmental Health/ Agency for Toxic Substances and Disease Registry.

[FR Doc. 05-12805 Filed 6-28-05; 8:45 am]

BILLING CODE 4163-70-P